DEPARTMENT OF ENERGY

Federal Energy Regulatory Commission

Notice of Settlement Agreement and Soliciting Comments

August 4, 2004.

Take notice that the following settlement agreement has been filed with the Commission and is available for public inspection.

a. Type of Application: Settlement agreement on new license.

b. Project No.: P-2030-036.

c. Date Filed: July 30, 2004.

d. Applicants: Portland General Electric Company and the Confederated Tribes of the Warm Springs Reservation of Oregon.

e. Name of Project: Pelton Round Butte Hydroelectric Project.

f. Location: On the Deschutes River, near the City of Madras, Jefferson County, Oregon.

g. Filed Pursuant to: Rule 602 of the Commission's Rules of Practice and Procedure, 18 CFR 385.602.

h. Applicant Contacts: Julie A. Keil, Director, Hydro Licensing, Portland General Electric Company, 121 SW Salmon Street, Portland, Oregon 97204, (503) 464-8864; James Manion, General Manager, Warm Springs Power Enterprises, P.O. Box 960, Warm Springs, Oregon 97761, (541) 553-1046.

i. FERC Contact: Nick Jayjack, (202) 502-6073, nicholas.jayjack@ferc.gov.

j. Deadline for filing comments: August 24, 2004. Reply comments: September 3, 2004.

All documents (original and eight copies) should be filed with: Magalie R. Salas, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Portland General Electric Company (PGE) and the Confederated Tribes of the Warm Springs Reservation of Oregon (CTWS) filed the Settlement Agreement on behalf of themselves and the U.S. Fish and Wildlife Service; Bureau of Indian Affairs; Bureau of Land Management; NOAA Fisheries; USDA Forest Service; Oregon Department of Environmental Quality; Oregon Department of Fish and Wildlife; Oregon Water Resources Department; Oregon Parks and Recreation Department; Deschutes County, Oregon; Jefferson County, Oregon; City of Bend, Oregon; City of Madras, Oregon; City of Redmond, Oregon; Avion Water Company; American Rivers; Oregon Trout; The Native Fish Society; and Trout Unlimited and WaterWatch of Oregon. The purpose of the settlement agreement is to resolve among the signatories issues regarding the relicensing of the Pelton Round Butte Hydroelectric Project. The signatories have agreed that the settlement agreement is fair and reasonable and in the public interest. On behalf of the signatories, PGE and CTWS request that the Commission approve the settlement agreement and adopt it as part of a new license without material modification.

l. A copy of the settlement agreement is available for review at the Commission in the Public Reference Room or may be viewed on the Commission's Web site at http://www.ferc.gov using the ``eLibrary'' link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E4-1771 Filed 8-10-04; 8:45 am]

BILLING CODE 6717-01-P